DEPARTMENT OF HEALTH AND HUMAN SERVICES

National Institutes of Health

National Cancer Institute; Amended Notice of Meeting

Notice is hereby given of a change in the meeting of the National Cancer Institute Special Emphasis Panel, NCI Program Project (P01) Review SEP-E, July 19, 2023, 12:00 a.m. to 5:00 p.m., National Cancer Institute Shady Grove, 9609 Medical Center Drive, Room 7W126, Rockville, Maryland 20850 which was published in the Federal Register on June 06, 2023, FR Doc 2023-11973, 88 FR 37079.

This notice is being amended to change the meeting start time from 12:00 a.m. to 12:00 p.m. The meeting end time, date, and location will stay the same. The meeting is closed to public.

Dated: June 7, 2023.
Melanie J. Pantoja,
Program Analyst, Office of Federal Advisory Committee Policy.

[FR Doc. 2023-12568 Filed 6-12-23; 8:45 am]

BILLING CODE 4140-01-P